DEPARTMENT OF LABOR

Employment and Training Administration

[TA-W-52,437]

Saint-Gobain Calmar, Inc., City of Industry, CA; Notice of Termination of Investigation

Pursuant to section 221 of the Trade Act of 1974, an investigation was initiated on July 31, 2003, in response to a worker petition which was filed by the State TAA Coordinator on behalf of workers at Saint-Gobain Calmar, City of Industry, California.

The petitioner has requested that the petition be withdrawn. Consequently, the investigation has been terminated.

Signed in Washington, DC, this 5th day of September, 2003.
Richard Church,
Certifying Officer, Division of Trade Adjustment Assistance.

[FR Doc. 03-27571 Filed 10-31-03; 8:45 am]

BILLING CODE 4510-30-P